DEPARTMENT OF HEALTH AND HUMAN SERVICES

Centers for Disease Control and Prevention

Disease, Disability, and Injury Prevention and Control Special Emphasis Panel (SEP): Initial Review

In accordance with Section 10(a)(2) of the Federal Advisory Committee Act (Pub. L. 92-463), the Centers for Disease Control and Prevention (CDC) announces a meeting for the initial review of applications in response to Funding Opportunity Announcement (FOA) PAR15-352, Occupational Safety and Health Training Projects.

Times and Dates:

1:00 p.m.-6:00 p.m., EST, January 18, 2016 (Closed).

1:00 p.m.-6:00 p.m., EST, January 19, 2016 (Closed).

Place: Teleconference.

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “Occupational Safety and Health Training Projects”, PAR15-352.

Contact Person for More Information: Nina L. Turner, Ph.D., Scientific Review Officer, CDC, 1095 Willowdale Road, Mailstop L1055, Morgantown, WV Telephone:(304) 285-6047, NTURNER@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-29176 Filed 12-5-16; 8:45 am]

BILLING CODE 4163-18-P